FEDERAL MARITIME COMMISSION

[Docket No. 13-07]

Global Link Logistics, Inc., v. Hapag-Lloyd AG; Notice of Filing of Complaint and Assignment

Notice is given that a complaint has been filed with the Federal Maritime Commission (Commission) by Global Link Logistics, Inc. (“Global Link”), hereinafter “Complainant,” against Hapag-Lloyd AG (“Hapag”), hereinafter “Respondent.” Complainant states that it is an FMC licensed, non-vessel-operating common carrier (“NVOCC”) incorporated in Delaware. Complainant alleges that Respondent is an ocean common carrier which has its principal place of business in Hamburg, Germany.

Complainant alleges that Respondent: “failed to establish, observe, and enforce just and reasonable regulations and practices relating to the receiving, handling, storing or delivering property in violation of 46 U.S.C. §§ 41102(c), by entering into a Service Contract with Global Link that does not comport with the Shipping Act's definition of a service contract;” “acted in violation of 46 U.S.C. § 41104(10) in unreasonably refusing to deal or negotiate in regard to the rates it was charging under its Service Contract;” and “[i]n resorting to unfair or unjustly discriminatory methods, Hapag acted in violation of 46 U.S.C. § 41104(3).”

Complainant requests that the Commission issue the following relief: “that Hapag be required to answer the charges in this Complaint; that after due hearing and investigation an order be made commanding Hapag to pay Global Link reparations for violations of the Shipping Act, plus interest, costs and attorney's fees, and any other damages to be determined; and that such other and further relief be granted as the Commission determines to be proper, fair and just under the circumstances.”

The full text of the complaint can be found in the Commission's Electronic Reading Room at www.fmc.gov/13-07.

This proceeding has been assigned to the Office of Administrative Law Judges. The initial decision of the presiding officer in this proceeding shall be issued by September 15, 2014 and the final decision of the Commission shall be issued by March 16, 2015.

Rachel E. Dickon,
Assistant Secretary.

[FR Doc. 2013-22768 Filed 9-18-13; 8:45 am]

BILLING CODE 6730-01-P